DEPARTMENT OF ENERGY

Federal Energy Regulatory Commission

[Docket No. RP02-116-001]

Northwest Pipeline Corporation; Notice of Compliance Filing

January 29, 2002.

Take notice that on January 23, 2002, Northwest Pipeline Corporation (Northwest) tendered for filing as part of its FERC Gas Tariff, Third Revised Volume No. 1, the following tariff sheets, with an effective date of January 1, 2002:

Substitute Eighth Revised Sheet No. 6

Substitute Fifteenth Revised Sheet No. 14

Substitute Second Revised Sheet No. 115

Substitute Second Revised Sheet No. 116

Substitute Third Revised Sheet No. 117

Substitute Second Revised Sheet No. 118

Substitute Eighth Revised Sheet No. 231

Seventh Revised Sheet No. 231-A

Third Revised Sheet No. 231-B

Substitute Original Sheet No. 359

Substitute Third Revised Sheet No. 360

Northwest states that the purpose of this filing is to provide explanations and tariff revisions, as needed, to address the issues raised by the Commission in its order dated January 2, 2002 pertaining to Northwest's new Rate Schedule DEX-1.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

C.B. Spencer,
Acting Secretary.

[FR Doc. 02-2582 Filed 2-1-02; 8:45 am]

BILLING CODE 6717-01-P